OFFICE OF PERSONNEL MANAGEMENT

Privacy Act of 1974: New System of Records

AGENCY: U.S. Office of Personnel Management (OPM).

ACTION: Projected date for publishing a revised notice for a new system of records.

SUMMARY: Based on the comments it has received in response to its October 5, 2010 and November 15, 2010 notices for this new system of records, OPM/Central-15, Health Claims Data Warehouse, OPM has determined that it will publish a revised systems notice. The revised notice will provide more detailed information regarding OPM authorities for maintaining the system, systems security measures that will be taken to protect the records, and the circumstances under which records will be released from the system. OPM plans to publish the revised notice by January 31, 2011. Although the comment period for the initial systems notice is closed as of December 15, 2010, the public will be provided an opportunity to comment on the revised notice before the system becomes operational.

DATES: The comment period for the initial systems notice closed on December 15, 2010; OPM plans to publish a revised systems notice by January 31, 2011.

FOR FURTHER INFORMATION CONTACT: Gary A. Lukowski, PhD, Manager, Data Analysis, at 202-606-1449.

U.S. Office of Personnel Management.
John Berry,
Director.

[FR Doc. 2010-31555 Filed 12-10-10; 10:11 am]

BILLING CODE 6325-46-P